DEPARTMENT OF COMMERCE

International Trade Administration

A-351-804, A-427-009, A-428-803, A-580-805, A-588-812, A-570-802, and A-412-803

Industrial Nitrocellulose from Brazil, France, Germany, the Republic of Korea, Japan, the People's Republic of China, and the United Kingdom: Notice of Final Results of Changed Circumstances Review and Revocation of the Antidumping Duty Orders

AGENCY: Import Administration, International Trade Administration, Department of Commerce.

SUMMARY: On June 17, 2004, the Department of Commerce published its preliminary results of changed circumstances review and intent to revoke the antidumping orders on industrial nitrocellulose from Brazil, France, Germany, the Republic of Korea (South Korea or Korea), Japan, the People's Republic of China (the PRC), and the United Kingdom (the UK). The basis of the revocation is that Green Tree Chemical Technologies (Green Tree), the sole producer of industrial nitrocellulose in the United States, has ceased production.

EFFECTIVE DATE: August 25, 2004.

FOR FURTHER INFORMATION CONTACT: Michael J. Heaney or Robert James, AD/CVD Enforcement, Office VII, Import Administration, International Trade Administration, U.S. Department of Commerce, 14th Street and Constitution Avenue, NW., Washington, DC 20230; telephone: (202) 482-4475 or (202) 482-0649, respectively.

SUPPLEMENTARY INFORMATION:

Background

On August 10, 1983, the Department published an antidumping duty order on industrial nitrocellulose from France. See Antidumping Duty Order: Industrial Nitrocellulose from France, 48 FR 36303 (August 10, 1983). On July 10, 1990, the Department published antidumping orders on industrial nitrocellulose from Brazil, Germany, Korea, Japan, the PRC, and the United Kingdom. See Antidumping Duty Order: Industrial Nitrocellulose from Brazil, 55 FR 28266, Antidumping Duty Order: Industrial Nitrocellulose from the Federal Republic of Germany, 55 FR 28271, Antidumping Duty Order: Industrial Nitrocellulose from the Republic of Korea, 55 FR 28266, Antidumping Duty Order: Industrial Nitrocellulose from Japan, 55 FR 28268, Antidumping Duty Order: Industrial Nitrocellulose from the People's Republic of China, 55 FR 28267, and Antidumping Duty Order: Industrial Nitrocellulose from the United Kingdom, 55 FR 28270.

On December 31, 2003, Nitro Quimica Brasileira (Nitro Quimica) requested that the Department revoke the antidumping duty order on industrial nitrocellulose from Brazil through a changed circumstances review. According to Nitro Quimica, revocation is warranted because of “lack of interest” on behalf of the U.S. industry. Specifically, Nitro Quimica asserts that no domestic producer of industrial nitrocellulose currently exists. Nitro Quimica contends that Hercules Incorporated, the only petitioner in the original investigation and the only U.S. producer at the time in which this order was issued, sold its nitrocellulose business to Green Tree on June 16, 2001. Nitro Quimica further contends that Green Tree closed its U.S. production facility on or about November 26, 2003. See Nitro Quimica December 31, 2003 letter at Attachment 3.

On February 12, 2004, Wolff Cellulosics GmbH (Wolff) asserted that the Department should revoke the order on industrial nitrocellulose from Germany because there is no U.S. producer of industrial nitrocellulose. Wolff argued that the Department should make revocation of the order on industrial nitrocellulose from Germany effective July 1, 2003, which is earliest date for which there are entries that have not yet been the subject of a completed administrative review. Wolff contended that Green Tree, the sole producer of the domestic like product, has ceased production and no longer maintains the capacity to produce industrial nitrocellulose. See Wolff's February 12, 2004 letter at Exhibits A and B. On February 25, 2004, the Department initiated a changed circumstances review with respect to the order on industrial nitrocellulose from Brazil (69 FR 8626, February 25, 2004).

On March 9, 2004, the Valspar Corporation (Valspar) requested that the Department revoke the antidumping duty orders on industrial nitrocellulose from France, Germany, Korea, Japan, the PRC, and the UK. Valspar asserts that cessation of production of the domestic like product constitutes “lack of interest” by the domestic industry in the continuation of the antidumping duty orders. See Valspar's March 9, 2004 letter, at pages 1-2.

On March 23, 2004, Bergerac NC and its affiliated U.S. importer SNPF North America, LLC (collectively BNC) requested that the Department revoke the order on industrial nitrocellulose from France. BNC asserts that the cessation of production of the domestic like product constitutes “lack of interest” by the domestic industry in the order on industrial nitrocellulose from France.

On April 5, 2004, the Department initiated changed circumstances reviews of the antidumping orders on industrial nitrocellulose from France, Germany, Korea, Japan, the PRC, and the UK (69 FR 17643, April 5, 2004). On April 23, 2004, Wolff filed additional comments supporting its request for revocation of the order on industrial nitrocellulose from Germany.

On May 3, 2004, counsel for petitioners informed the Department that (1) Green Tree had located no buyer for its nitrocellulose production facility, (2) Green Tree did not anticipate finding such a buyer within the foreseeable future, and (3) Green Tree did not anticipate that either Green Tree or a successor-in-interest to Green Tree would resume production of industrial nitrocellulose within a determinable time frame. Accordingly, Green Tree acknowledged that it is no longer in a position to oppose revocation of the antidumping orders on industrial nitrocellulose from Brazil, France, Germany, Korea, Japan, the PRC, and the UK. See May 3, 2004 Memorandum from Michael J. Heaney to the File.

On June 17, 2004, we published Industrial Nitrocellulose from Brazil, France, Germany, Korea, Japan, the People's Republic of China, and the United Kingdom: Notice of Preliminary Results of Changed Circumstances Review and Intent to Revoke Antidumping Duty Orders, 69 FR 33884 (Preliminary Results). In the Preliminary Results, we announced our intent to revoke the antidumping orders on industrial nitrocellulose from Brazil, Germany, Korea, Japan, the PRC, and the UK effective July 1, 2003. We also announced in those Preliminary Results our intent to revoke the antidumping duty order on industrial nitrocellulose from France effective August 1, 2003. We received no comments from interested parties concerning these Preliminary Results.

On July 14, 2004, Wolff filed a letter reiterating its position that the order on industrial nitrocellulose from Germany should be revoked effective July 1, 2003.

Scope of the Review

The product covered by this review is industrial nitrocellulose, currently classifiable under HTS subheading 3912.20.00. The HTS item number is provided for convenience and Customs purposes. The written description remains dispositive as to the scope of the product coverage.

Industrial nitrocellulose is a dry, white, amorphous synthetic chemical with a nitrogen content between 10.8 and 12.2 percent. Industrial nitrocellulose is used as a film-former in coatings, lacquers, furniture finishes, and printing inks. The scope of this order does not include explosive grade nitrocellulose, which has a nitrogen content of greater than 12.2 percent.

Final Results of Changed Circumstances Antidumping Duty Administrative Reviews

Having received no comments in objection to the analysis presented in our Preliminary Results, we are revoking the antidumping duty orders on industrial nitrocellulose from Brazil, Germany, Korea, Japan, the PRC, and the UK effective July 1, 2003. Additionally, we are revoking the antidumping duty order on industrial nitrocellulose from France effective August 1, 2003.

Instructions to Customs

In accordance with section 351.222 of the Department's Regulations, the Department will instruct U.S. Customs and Border Protection (CBP) to terminate the suspension of liquidation and to liquidate, without regard to antidumping duties, all unliquidated entries of industrial nitrocellulose from Brazil, Germany, Korea, Japan, the PRC, and the UK effective July 1, 2003. Additionally, the Department will instruct CBP to terminate the suspension of liquidation and to liquidate, without regard to antidumping duties, all unliquidated entries of industrial nitrocellulose from France effective August 1, 2003. The Department will further instruct CBP to refund with interest any estimated duties collected with respect to unliquidated entries of industrial nitrocellulose from Brazil, Germany, Korea, Japan, the PRC, and the UK, entered, or withdrawn from warehouse, for consumption on or after July 1, 2003, in accordance with section 778 of the Act. The Department will additionally instruct CBP to refund with interest any estimated duties collected with respect to unliquidated entries of industrial nitrocellulose from France entered, or withdrawn from warehouse, for consumption on or after August 1, 2003.

Notification

This notice also serves as a reminder to parties subject to administrative protective orders (APOs) of their responsibility concerning the disposition of proprietary information disclosed under APO in accordance with section 351.306 of the Department's regulations. Timely written notification of the return/destruction of APO materials or conversion to judicial protective order is hereby requested. Failure to comply with the regulations and terms of an APO is a sanctionable violation.

This notice of final results of changed circumstances review and revocation of the antidumping duty order is in accordance with sections 751(b) and (d), and 777(I)(1) of the Act and 351.216(d) and 351.222(g) of the Department's regulations.

Dated: August 18, 2004.
James J. Jochum,
Assistant Secretary for Import Administration.

[FR Doc. E4-1926 Filed 8-24-04; 8:45 am]

BILLING CODE 3510-DS-S